DEPARTMENT OF DEFENSE

Office of the Secretary

[Docket ID: DoD-2012-OS-0106]

Privacy Act of 1974; System of Records

AGENCY: National Security Agency/Central Security Service, DoD.

ACTION: Notice to add a system of records.

SUMMARY: The National Security Agency/Central Security Service proposes to add a new system of records in its inventory of record systems subject to the Privacy Act of 1974 (5 U.S.C. 552a), as amended. The blanket (k)(1) exemption applies to this system of records to accurately describe the basis for exempting disclosure of classified information that is or may be contained in the records.

DATES: This proposed action will be effective on October 15, 2012 unless comments are received, which result in a contrary determination.

Comments will be accepted on or before October 15, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kris Grein, National Security Agency/Central Security Service (NSA/CSS), Freedom of Information Act and Privacy Act Office, 9800 Savage Road, Suite 6248, Ft. George G. Meade, MD 20755-6248, or by phone at (301) 688-6527.

SUPPLEMENTARY INFORMATION: The National Security Agency/Central Security Service notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on July 19, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 10, 2012.
Aaron Siegel,
Alternate OSD Federal Register Liaison Officer, Department of Defense.

GNSA 30

System name:

Congressional, Executive, and Political Inquiry Records.

System location:

National Security Agency/Central Security Service, 9800 Savage Road, Ft. George G. Meade, MD 20755-6000.

Categories of individuals covered by the system:

Individuals or organizations that have authorized Members/Staff of Executive Branch Agencies of Government to make inquiries on their behalf.

Categories of records in the system:

Records contain representative's name, constituent's name, details surrounding the issue being researched. The records may also contain the constituent's home address, home telephone number, or related personal information provided by constituent/representative making the inquiry.

Authority for maintenance of the system:

5 U.S.C. 301, Departmental Regulations; DoD Directive 5400.04, Provision of Information to Congress; and DoD Instruction 5400.04, Provision of Information to Congress.

Purpose(s):

Information is collected to reply to inquiries and to determine the need for and course of action to be taken for resolution.

Routine uses of records maintained in the system, including categories of users and the purposes of such uses:

In addition to those disclosures generally permitted under 5 U.S.C. 552a(b) of the Privacy Act of 1974, these records contained therein may specifically be disclosed outside the DoD as a routine use pursuant to 5 U.S.C. 552(a)(b)(3) as follows:

Information is furnished in reply to a Member/Staff of Executive Branch Agencies of Government who wrote to NSA on behalf of the constituent and who use it to respond to the constituent.

To Federal government agencies having cognizance over or authority to act on the issues involved.

The DoD Blanket Routine Uses published at the beginning of the NSA/CSS's compilation of record systems may apply to this records system.

Policies and practices for storing, retrieving, accessing, retaining, and disposing of records in the system:

Storage:

Paper in file folders and electronic storage media.

Retrievability:

Retrieved by constituent's name or representative's name.

Safeguards:

Buildings are secured by a series of guarded pedestrian gates and checkpoints. Access to facilities is limited to security-cleared personnel and escorted visitors only. Within the facilities themselves, access to paper and computer printouts is controlled by limited-access facilities and lockable containers. Access to electronic records is limited and controlled by computer password protection.

Retention and disposal:

Records are retained for 10 years and then destroyed. Paper records are destroyed by pulping, burning, or shredding. Magnetic media is erased or destroyed.

System manager(s) and address:

Associate Director for Legislative Affairs, National Security Agency/Central Security Service, 9800 Savage Road, Fort George G. Meade, MD 20755-6000.

Notification procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, mailing address, telephone number and signature.

Record access procedures:

Individuals seeking access to information about themselves that is contained in this system should address written inquiries to the National Security Agency/Central Security Service, Freedom of Information Act/Privacy Act Office, Suite 6248, 9800 Savage Road, Ft. George G. Meade, MD 20755-6248.

Written inquiries should contain the individual's full name, mailing address, telephone number and signature.

Contesting records procedures:

The NSA/CSS rules for contesting contents and appealing initial determination are published at 32 CFR part 322 or may be obtained by written request addressed to the National Security Agency/Central Security Service, Freedom of Information Act/Privacy Act Office, Suite 6248, 9800 Savage Road, Ft. George G. Meade, MD 20755-6248.

Records source categories:

Constituent, the constituent's representative, and from agency files.

Exemptions claimed for the system:

An exemption rule for this system has been promulgated in accordance with requirements of 5 U.S.C. 553(b)(1), (2), and (3), and published in 32 CFR 322.7. For additional information contact the system manager.

[FR Doc. 2012-22549 Filed 9-12-12; 8:45 am]

BILLING CODE 5001-06-P